DEPARTMENT OF THE INTERIOR

National Park Service

36 CFR Part 7

RIN 1024-AC82

Special Regulations, Areas of the National Park System

AGENCY: National Park Service, DOI.

ACTION: Final Rule.

SUMMARY: The National Park Service (NPS) is phasing out snowmobile use in Yellowstone National Park (Yellowstone), the John D. Rockefeller, Jr., Memorial Parkway (the Parkway), and, with some exceptions, in Grand Teton National Park (Grand Teton), and snowplane use in Grand Teton. This implements portions of an approved Winter Use Management Plan for the parks, to come into compliance with the legal requirements that apply to snowmobile use in national parks.

DATES: This rule becomes effective February 21, 2001.

FOR FURTHER INFORMATION CONTACT: Kym Hall, Regulations Program Manager, National Park Service, 1849 C Street, NW., Room 7413, Washington, DC 20240. Telephone: (202) 208-4206. Fax: (202) 208-6756. Email: Kym_Hall@nps.gov.

SUPPLEMENTARY INFORMATION: The NPS (we) published the proposed rule on December 18, 2000. Background information on the rule is in that Federal Register notice (65 FR 79024).

Changes to Proposed Rule

We have made one set of substantive changes to the rule as originally proposed. A section of Public Law 106-554 (enacted after our proposal) provides that, prior to July 31, 2001, no new rules may be promulgated to reduce during the winter seasons of 2000-2001 or 2001-2002 snowmobile use in any units of the national park system below current use patterns. The rule does not include any such restrictions for the winter of 2000-2001. For the winter of 2001-2002, the proposed rule included daily limits on snowmobile use of all three parks at historic levels, to prevent increases in use; restrictions on nighttime snowmobile operation; and repeal of the current designation of seven routes in Yellowstone for snowmobile use. To avoid any questions about consistency with the recent statute, we have deleted these elements from the final rule. The statute explicitly allows emergency restrictions on snowmobile use during the winters of 2000-2001 and 2001-2002, and if warranted we will take action to protect park resources and values, or public or employee health or safety.

The remainder of this final rule is substantively identical to what was proposed.

Analysis of Public Comments

We provided 30 days for public comment on our proposal, through January 17, 2001. By midnight of that day, we had received 5,273 comments in the form of letters, postcards and e-mails. We analyzed comments as we received them, and analyzed every comment we received. Nearly all raised the same issues as earlier comments on the draft environmental impact statement (DEIS) and final environmental impact statement (FEIS) on the winter use plan for the parks. A few did raise new issues. Of the comments, 817 supported continued snowmobile use in the parks, 61 opposed both snowmobile and snowcoach use, and 4,395 supported the rule. Following is a summary of the comments we received on the proposed rule and our responses to them.

Issue 1—Most comments supported ending snowmobile use in the parks to protect air and water quality, restore natural quiet, reduce wildlife disturbances, and restore the tranquillity and serenity of the winter experience of the parks.

NPS Response—These comments support our action.

Issue 2—Some people said that snowmobiles do not affect the parks, that this rule unfairly discriminates against one particular use of the parks, or that we have no basis for ending a use that we have long allowed under the same legal requirements we now cite as reasons for ending it.

NPS Response—The Federal Register notice on the proposed rule summarizes the legal requirements that apply to snowmobile use in parks (“the applicable legal requirements”). In these parks, we have allowed snowmobile use to continue and expand, despite those requirements. (By contrast, in Glacier National Park, we halted snowmobile use soon after Executive Order 11644 was issued.) Having now studied the impacts of snowmobile use in these parks, we acknowledge that we have not complied with the applicable legal requirements. This rule will bring us into compliance.

Issue 3—Some comments said we should not take away visitors' personal freedom to ride snowmobiles where and when they want to, leaving as their only option travel in snowcoaches driven by somebody else.

NPS Response—We understand that many people enjoy the freedom snowmobiles provide. However, we must comply with the applicable legal requirements. Snowmobilers will continue to be able to ride snowmobiles where and when they want to on other lands, including nearby national forest lands that are open to snowmobile use. In other parks, when necessary to protect their resources and values, we have prohibited travel by individual motor vehicles, providing mass transit instead. This has been widely acceptable to visitors to those parks. We believe this change will be acceptable to visitors to these parks, too.

Issue 4—Many comments opposed eliminating most snowmobile use in the parks because of the adverse economic impacts they expect on businesses and gateway communities.

NPS Response—We believe this rule is the best way to comply with the applicable legal requirements while reducing possible adverse economic impacts. See the “Regulatory Flexibility Act” section, below.

Issue 5—Numerous comments urged us to require the use of cleaner and quieter snowmobiles rather than prohibiting the use of all snowmobiles.

NPS Response—Some newer snowmobiles have promise for reducing some impacts, but not enough for the use of large numbers of those machines to be consistent with the applicable legal requirements. Cleaner, quieter snowmobiles would do little, if anything, to reduce the most serious impacts on wildlife, which are caused more by inappropriate use of snowmobiles than by the machines themselves. Quieter snowmobiles are still noisy, and are audible at a greater distance than 4-track conversion snowcoaches. Since snowcoaches carry many passengers and snowmobiles only one or two, snowcoaches can accommodate the same level of overall winter visitation with far fewer noise impacts on the natural soundscape and other visitors than even quieter snowmobiles. Also, the ultimate extent to which some new snowmobiles may produce less air pollution over their useful life is unclear in the absence of emission standards, testing, and certification. Under the Clean Air Act, the EPA has the authority to establish emission standards for snowmobiles, and it is at least two or three years away from setting any such standards, which then would not take effect for additional years. The need for us to comply with the applicable legal requirements does not allow for such a delay.

Issue 6—Some comments said that we are mandated by law to conserve park resources and values, and so we should not allow as much, or any, snowmobile and snowcoach use as this rule allows.

NPS Response—Our statutory mandate includes providing for enjoyment of the parks. When, as here, we can allow motorized winter access while also complying with legal requirements and our management objectives, we believe it appropriate to do so.

Issue 7—Some comments claimed this rule is inappropriately burdening small businesses, or even unlawfully doing so in violation of the Regulatory Flexibility Act.

NPS Response—See the “Regulatory Flexibility Act” section, below. That law requires us to consider how to fulfill our objectives with fewer impacts on small entities. After considering a range of alternatives, we believe this rule is the alternative that complies with the applicable legal requirements and our management objectives with the fewest impacts on small businesses.

Issue 8—Some comments said we are relying too much on snowcoaches, expressing concerns about their reliability, the comfort of passengers, their availability for purchase in sufficient numbers and at prices affordable for businesses, and their lack of speed.

NPS Response—Snowcoaches have been used successfully in national parks for over 45 years. We believe their mechanical reliability is satisfactory. They are fast enough for Yellowstone destinations to be within reach for a trip of reasonable duration. They are comfortable enough—for most passengers, more comfortable than snowmobiles. Businesses currently operate 45 snowcoaches in the parks, indicating their viability as a business option. Additional businesses have already expressed interest in new economic opportunities resulting from this rule, from producing them for sale to operating them in the parks.

Issue 9—Some people urged us to end snowmobile use in the parks more quickly, to comply with the applicable legal requirements sooner than in four years.

NPS Response—Under our Management Policies 2000, if there is an impairment of park resources and values from ongoing activities, as here, we must eliminate it as soon as reasonably possible. If the impairment is not from permanent impacts, as here, in determining how soon that is, we may make due allowance for avoiding unacceptable social, economic, or environmental effects of the action eliminating the impairment. We believe that eliminating this impairment sooner than in four years would cause unacceptable effects on the communities and small businesses supporting and relying on snowmobile use in the parks. We believe the same principles should govern the timing of our coming into compliance with the other applicable legal requirements. Also, as indicated above, Congress has limited our authority to reduce snowmobile use in the 2000-2001 and 2001-2002 winter seasons. We will take other steps in the interim, such as increasing ranger efforts to keep inappropriate snowmobile use from disturbing wildlife, to mitigate the impacts of snowmobile use to the extent reasonably possible.

Issue 10—Some commenters stated that the public comment period on this rule was too short, particularly in light of the complexities of the issue.

NPS Response—This rule is based on an alternative in the DEIS and FEIS, on which we had three formal comment periods, and received and considered more than 59,000 comments. Given that and the relative lack of new issues raised by this rule, we believe 30 days for comment on the rule is adequate.

Issue 11—Some commenters said that this rule will drastically reduce winter use of the parks, contrary to the laws creating these parks and the national park system.

NPS Response—We believe this rule will allow the greatest number of people to visit the parks in ways that are consistent with the applicable legal requirements.

Issue 12—Some comments said that the NPS needs to consider the cost to the taxpayer of this program, along with the cost of new or upgraded facilities necessary to support it, and/or to develop a snowcoach implementation plan on such issues.

NPS Response—NPS disagrees that significant infrastructure is required to implement the rule. Snowcoaches currently operate effectively with existing facilities. We will develop the necessary plans and facilities in a timely manner to implement the changes that will result from this rule. If the development of any of those plans or facilities require their own environmental assessments or other studies, we will conduct those assessments or studies before making final decisions.

Issue 13—Some comments said we should have used more information supplied by the state and local governments that were cooperating agencies in the preparation of the EIS.

—The role of cooperating agencies in the development of an EIS is to participate in the internal review process, and provide information and opinion to the lead agency. It is the responsibility of the lead agency to decide which information to use in the EIS. When we chose to use other information than that provided by the cooperating agencies, we still included the information they provided in the FEIS.

Issue 14—Some commenters complained that, while we base this decision on the provision of the NPS Organic Act that we must leave parks unimpaired, we are not giving equal weight to the portion of the same provision that directs us to provide opportunities for enjoyment of the parks.

NPS Response—The NPS Organic Act, 16 U.S.C. 1 et seq., does establish a mandate that we provide for enjoyment of the parks, but that is subject to the Act's overall limitation that we may not allow for the impairment of park resources and values. The overriding nature of the prohibition on impairment is clear from the language of the Act. The courts have also consistently interpreted the Act this way.

Issue 15—Some comments suggested letting snowmobiles in the parks only during certain designated periods of the winter, so that snowmobilers during those periods and other users during other periods could each enjoy the experiences they prefer.

NPS Response—Separating snowmobile and non-snowmobile visitors would only address the impact that snowmobile use has on other users, not the other adverse effects of snowmobile use, which we are also required to address under the applicable legal requirements.

Issue 16—Some commenters stated that the impacts of snowmobile use on wildlife identified in the FEIS are minor enough that they do not support one of the stated reasons for this rule, which is the elimination of adverse impacts to wildlife from snowmobile use in these parks.

NPS Response—Our general regulation on snowmobile use, 36 CFR 2.18, prohibits any snowmobile use that disturbs wildlife. The FEIS and studies referred to in it document ways in which snowmobile use in the parks disturbs wildlife. Based on the same information, we have also determined that the snowmobile use occurring in Yellowstone impairs its resources and values, including wildlife. The impacts include, in particular, the effects on bison in Yellowstone's roadways of snowmobiles, especially from those operated inappropriately by inexperienced operators. Bison are frequently herded back and forth on the roadways, requiring unnatural energy expenditures during the time of year of greatest stress to them, from high snow, extreme cold, and food shortages.

Issue 17—Some commenters said this rule will lead to increased snowmobile use on nearby national forest lands, which we must analyze before taking this action.

NPS Response—The FEIS includes a detailed discussion of potential impacts on adjacent national forest lands.

Issue 18—Some comments proposed limiting snowmobile numbers, and/or requiring snowmobilers to travel in guided groups, instead of ending snowmobile use.

NPS Response—Achieving compliance with the applicable legal requirements while still allowing snowmobile use would require very strict limits on the numbers of both snowmobiles and snowcoaches. (We have not done a detailed analysis of the actual limits that would be necessary.) As a result, that would sharply limit overall winter use of the parks, reducing the opportunities for public enjoyment of the parks and causing even greater adverse impacts on affected gateway communities and businesses. We chose instead to allow use of the parks by snowcoaches, which, because they have far fewer and less extensive adverse impacts than snowmobiles, can be accommodated, we now believe, without numerical limits.

Issue 19—Some commenters claimed that the air quality analyses on which this rule is based are not adequate.

NPS Response—We believe the data reported in the FEIS and in other NPS studies, particularly Air Quality Concerns Related to Snowmobile Usage in National Parks (NPS 2000), are adequate to support the conclusions on which this rule is based.

Issue 20—Some commenters stated that this rule will restrict winter access to the parks by disabled persons, in violation of federal law.

NPS Response—Disabled people will be able to ride in snowcoaches, with appropriate means of access provided, so their access will not be denied.

Issue 21—Some commenters claimed that NPS is regulating only winter vehicles and their impacts, and ignoring similar impacts and impairment from vehicles in the park in the summer.

NPS Response—Our planning effort focused on winter use activities in these parks, as required by the court order settling a lawsuit. Also, the applicable executive orders apply to snowmobile and snowcoach use, not other uses of the parks, and our general regulation on snowmobile use applies only to that use. However, when appropriate, we compared winter conditions and activities to those of other seasons, on such points as how snowmobiles and snowplanes are audible for greater distances than other motor vehicles, how the natural soundscapes in the park in winter are quieter than in other seasons, and how snowmobiles produce more carbon monoxide and hydrocarbon emissions in Yellowstone than all other motor vehicles.

Issue 22—NPS can mitigate impacts on wildlife by providing more rangers as in the summer, thus making the snowmobile ban unnecessary.

NPS Response—We will increase ranger patrols to reduce the impacts of snowmobile use on wildlife and the safety of visitors. We do not believe, however, especially within the constraints of our budgets and personnel limits, that increased ranger patrols can achieve compliance with the applicable legal requirements and our management objectives for the parks.

Issue 23—Some commenters suggested that, since most snowmobiles in the parks use Yellowstone's West Entrance, we should limit snowmobiles only there, not elsewhere.

NPS Response—Adverse impacts of snowmobile use on wildlife, air quality, and the enjoyment of other visitors occur throughout Yellowstone. Limiting snowmobiles only at the West Entrance would not address all impacts throughout the park, and might merely shift that use and its impacts to other entrances.

Issue 24—The visitor use (snowmobile) numbers provided in the draft rule are incorrect and should be recalculated.

NPS Response—We have deleted the proposed use limits for the winter of 2001-2002. We believe the use limits for the winter of 2002-2003 are correctly calculated, on the grounds stated in the notice on the proposed rule.

Issue 25—Some commenters said that the restriction Congress adopted in December on new NPS rules restricting snowmobile prevents us from adopting this rule.

NPS Response—As explained above, we removed from the proposed rule all of its elements that arguably could be considered to be inconsistent with the statutory provision.

Issue 26—Some commenters recommended that we end the grooming of roads in Yellowstone (whether for snowmobiles or snowcoaches), because groomed roads promote the migration of bison out of the park in the winter, onto lands where they may be killed out of concern over the possible transmission of brucellosis to livestock.

NPS Response—As documented in the FEIS, bison use groomed roads within the park, but there is no conclusive evidence on the extent to which groomed roads lead to migration of bison out of the park. The NPS and other involved federal agencies have recently adopted a new bison management plan that should reduce the killing of bison that have left the park. The plan does not rely on ending the winter grooming of Yellowstone roads.

Issue 27—Some commenters stated that we should allow a longer phase-in period before eliminating snowmobile use, to reduce the adverse economic impacts of that action.

NPS Response—As stated in the response to issue 10, our interpretation of the NPS Organic Act in our Management Policies 2000 requires us to eliminate an impairment as soon as reasonably possible. Because we believe it is possible to eliminate the impairment in Grand Teton by the winter of 2002-2003 and in Yellowstone and the Parkway by the winter of 2003-2004 without causing unacceptable social, economic, or environmental effects, we do not have the authority to delay any longer than that in eliminating the impairment. We believe it is reasonable and appropriate for the same principles to apply with respect to the timeline required to come into compliance with the applicable requirements of executive orders and NPS regulations.

Issue 28—Some commenters noted that the FEIS appears to identify the same impacts on wildlife from snowcoaches and from snowmobiles, undercutting our reasoning for ending snowmobile use and replacing it with expanded snowcoach use.

NPS Response—Snowcoaches have far less of an impact on wildlife than snowmobiles. First, snowcoaches, being operated by trained drivers under NPS-issued permits, are much less likely to be operated in a manner that harasses wildlife (especially bison on the roadways in Yellowstone) than are snowmobiles, which are often operated by people inexperienced with the parks in winter. Second, snowcoaches are quieter than snowmobiles, reducing the noise impacts on wildlife. Also, a single snowcoach carries many passengers, and a snowmobile only one or two, so the use of snowcoaches means ‘fewer vehicles will be operating in and disturbing wildlife in the parks.

Issue 29—Some commenters stated that we failed to consider and respond to several issues raised in comments on the DEIS, as we are required to do.

NPS Response—While we did consider and respond to all of the approximately 46,500 comments on the DEIS, we combined some comments and responses into general categories, as is legally permissible.

Issue 30—Some commenters claimed that we may not allow grooming of road surfaces in winter or the operation of snowcoaches, since we have no regulations that specifically provide for those operations.

NPS Response—We do not need to have regulations specifically authorizing all management activities we undertake or public uses we allow in parks. Both road grooming and snowcoach operations are allowable under general NPS authorities.

Issue 31—Some comments suggested that we install a monorail public transit system that could provide access to the interior of Yellowstone year-round, instead of providing any other winter motorized access to the park.

NPS Response—We did not analyze a monorail option, because we believe it would be too expensive, even if technologically feasible. It also would take years to complete, longer than we can wait to comply with the applicable legal requirements.

Issue 32—Some commenters suggested that we should prohibit the use of snowmobiles and/or snowcoaches in the parks for our own administrative uses.

NPS Response—It would not be feasible to completely eliminate the administrative use of snowmobiles and/or snowcoaches in the parks. To begin with, NPS employees and their families live in the interior of Yellowstone, in areas not open to any other motor vehicles in the winter. However, we are ending recreational use of snowmobiles by NPS employees and their families, acquiring more snowcoaches to use instead of snowmobiles for administrative purposes, and otherwise reducing the impacts of our use of snowmobiles and snowcoaches.

Issue 33—Some people said the FEIS was not detailed enough, either in general or on one or more particular issues.

NPS Response—We believe the FEIS includes adequate detail. The Environmental Protection Agency (EPA), which reviewed the adequacy of the FEIS, also found it to be satisfactory. It does summarize and incorporate by reference much data available elsewhere, as is allowable.

Issue 34—Some comments pointed out that adoption of the rule is essential for the NPS to have the authority to phase in compliance with the applicable legal requirements, that without a rule such as this we would need to take immediate action to come into compliance.

NPS Response—We believe this is correct.

Issue 35—The Continental Divide Snowmobile Trail and the Grassy Lake Road should remain open to provide access to adjacent public lands.

NPS Response—We believe that ending snowmobile use of these trails is necessary to comply with the applicable legal requirements and fulfill our management objectives for the park. We are allowing continued snowmobile use on short routes to adjacent lands open to snowmobile use, or to provide access to private property, when that can be done without violating the applicable legal requirements. Neither is the case for these two routes.

Issue 36—Requiring that all visitors be accompanied by a guide is overstepping NPS authority and is unwarranted. Further it will have no beneficial impact on employment in the surrounding communities as stated in the proposed rule.

NPS Response—We believe this is an important requirement to mitigate the impacts of snowmobile use on wildlife and the safety of other visitors during the last year before the use is ended.

Issue 37—NPS should not allow roads to continue to be groomed because it alters the parks’ wildlife population movement and dynamics, particularly in relation to bison.

The FEIS is deficient because NPS failed to evaluate and analyze the considerable scientific evidence documenting the adverse impact of road grooming on park wildlife, particularly bison, and the inconsistency of road grooming with NPS' natural regulation mandate.

NPS Response—As documented in the FEIS, bison use groomed roads within the park, but there is no conclusive evidence that groomed roads lead to migration of bison out of the park. The impacts of road grooming on all wildlife species of concern are addressed for each alternative in the FEIS. Available literature on this topic was reviewed and cited as necessary in the FEIS.

Issue 38—The FEIS is deficient because NPS failed to properly consider and respond to several issues raised in comments submitted on the DEIS.

NPS Response—We considered and responded to all comments on the DEIS. Similar comments were grouped and responded to in like fashion.

Issue 39—The NPS failed to consider the impacts of road grooming on threatened and endangered species in violation of the Endangered Species Act.

NPS Response—We did consider and document these impacts in the FEIS and in a biological assessment concurred in by the U.S. Fish and Wildlife Service.

Issue 40—Some comments said we are required to ban snowmobile use, based on our finding of impairment, whether or not a final rule is published.

NPS Response—We are required under the Organic Act to eliminate the impairment. We believe that the rulemaking process is the most appropriate process for doing so in this instance.

Issue 41—Some comments from employees of Yellowstone National Park raised concerns about the health effects on them of exposure to air pollutants from snowmobiles and concerns about excessive numbers of violations by snowmobile operators of such laws as speed limits, creating public safety hazards.

NPS Response—We are very concerned about the adverse health effects from air emissions on our employees, particularly those working at Yellowstone's West Entrance station. If we need to take additional steps to protect the health of NPS employees, we will do so. Over time, the rule will reduce both health and law enforcement problems.

Compliance With Other Laws

Regulatory Planning and Review

This document is a significant rule and has been reviewed by the Office of Management and Budget under Executive Order 12866.

1. This rule will not have an effect of $100 million or more on the economy. It will not adversely affect in a material way the economy, productivity, competition, jobs, the environment, public health or safety, or State, local, or tribal governments or communities. These conclusions are based on the analysis contained in the FEIS and a report we commissioned on the economic impact of this regulation, “Proposed Restrictions on Snowmobile Riding in Yellowstone and Grand Teton National Parks and the John D. Rockefeller Memorial Parkway” (LawGibb Group, Arcadis JSA, and Research Triangle Institute, January 2001). According to these analyses, the total effect on the economy is likely to be between $4.8 million and $19 million annually.

2. This rule will not create a serious inconsistency or otherwise interfere with an action taken or planned by another agency. Implementing actions under this rule will not interfere with plans by other agencies or local government plans, policies, or controls since this is an agency specific change.

3. This rule does not alter the budgetary effects or entitlements, grants; user fees, or loan programs or the rights or obligations of their recipients. It only affects the use of over-snow machines within specific national parks. No grants or other forms of monetary supplement are involved.

4. This rule may raise novel legal or policy issues. The issue has generated local as well as national interest on the subject in the greater Yellowstone area. We received over 63,000 public comments on the scope of the DEIS, the FEIS, and the rule.

Regulatory Flexibility Act

Based on our economic analysis and supporting documents, we certified in our notice on the proposed rule that the rule will not have a significant economic effect on a substantial number of small entities under the Regulatory Flexibility Act (5 U.S.C. 601 et seq.). Nonetheless, we have now contracted for a separate and more detailed analysis of the economic impacts of the rule, especially on small entities, “Proposed Restrictions on Snowmobile Riding in Yellowstone and Grand Teton National Parks and the John D. Rockefeller Memorial Parkway” (LawGibb Group, Arcadis JSA, and Research Triangle Institute, January 2001). It estimates that the total adverse economic effect on businesses (mostly small businesses) will likely range from $4.8 million to $10 million annually. Based on the FEIS and this report, we have determined and again certify that there will not be a significant economic effect on a substantial number of small entities from this rule. We summarize our analysis as follows:

Statement of need and objectives of the rule—to come into compliance with the applicable legal requirements and to fulfill park management objectives, as stated in the notice on the proposed rule and in this notice.

Issues raised in public comments—See the FEIS, Volume III (parts 1, 2, and 3) and our responses in this document.

Small entities affected—Most affected will be 70 snowmobile rental businesses and 11 snowcoach tour companies, which could lose between $4.1 million to $4.4 million annually. Most are in West Yellowstone, Montana, with others in other gateway communities. Hotels, restaurants, gas stations, and retail establishments, again mostly in West Yellowstone but also in other gateway communities, will be less affected, and could lose between $700,000 to $5.6 million annually. One local government, the city of West Yellowstone, will be an affected small entity, and could lose between $80,000 to $125,000 from reduced resort tax receipts. From a national perspective, these impacts do not constitute a significant impact to a substantial number of small entities.

Reporting and recordkeeping requirements for small businesses—There are none.

Alternatives considered to reduce impacts—We have considered various alternatives, and have made various decisions, to mitigate the impacts of this rule on small entities. We believe this rule complies with the applicable legal requirements with the fewest adverse impacts on small entities, for several reasons.

First, we rejected the approach, included in the preferred alternative in the DEIS, of plowing the road between Yellowstone's West Entrance and Old Faithful in the winter, keeping it open to wheeled vehicles, and closing it to snowmobiles and snowcoaches. This approach was opposed by approximately 99% of the people who commented on this part of the DEIS, in large part because of the adverse economic impact it would have on West Yellowstone and businesses there dependent on oversnow recreation in Yellowstone.

Second, while it might be possible to comply with the applicable legal requirements while allowing some continued use of both snowmobiles and snowcoaches in the parks, the numbers of both snowmobiles and snowcoaches would have to be very strictly limited, to comply with the strict standards of the applicable requirements. As a result, this approach would end up drastically reducing the number of winter visitors to the parks, with a much greater adverse economic impact than under this rule. We did not choose this approach.

Third, we also could have chosen to comply with the applicable legal requirements by allowing only snowcoaches, not also snowmobiles, in the parks, but limiting the number of snowcoaches allowed to lessen their impact. This, too, would lead to a reduction in winter visitation to the parks more than this rule might.

Fourth, other approaches that we have considered that would continue to allow significant numbers of snowmobiles to use the parks would fail to comply with the applicable legal requirements. These include relying on air pollution emission standards established by EPA; establishing our own stricter noise emission limits; and restricting snowmobile use to more limited areas of the parks or to more limited times. We are not free to continue to violate those requirements just to avoid the possible impacts of complying with them.

Steps taken to minimize economic impacts—We have made several decisions on how to implement this action to mitigate any adverse economic impacts, especially those on small entities. To begin with, the elimination of snowmobiles will be phased over four winter seasons, allowing significant time for affected businesses to adjust to providing snowcoach service instead. Next, snowcoach access to the parks will require a concession permit from us. Permits will be awarded to numerous small businesses in the surrounding communities. We have already authorized existing snowmobile operators to add snowcoach service, and authorized existing snowcoach operators to add more coaches. Finally, we will join with the tourism offices of the affected states and counties, as well as destination marketing organizations, to market winter visitation to the parks under the new rules. We have committed $100,000 in fiscal year 2001 for this purpose.

Small Business Regulatory Enforcement Fairness Act (SBREFA)

This rule is not a major rule under 5 U.S.C. 804(2), the Small Business Regulatory Enforcement Fairness Act. This rule:

A. Does not have an annual effect on the economy of $100 million or more. From the FEIS, estimated economic loss and employment impacts of implementing actions under this rule are: In the five-county, greater Yellowstone area, an estimated loss of $14.4 to $19.2 million; in the three state area surrounding the parks, a possible loss of $7.7 million to a possible increase of $7.0 million. Increased winter visitation from new visitors to the parks who have not visited them because of the impacts of snowmobiles could substantially offset the estimated loss and employment reductions from a reduction in visitation by current winter visitors.

B. Will not cause a major increase in costs or prices for consumers, individual industries, Federal, State, or local government agencies, or geographic regions. The potential loss of revenue from snowmobile users will likely be offset by visitors using snowcoaches to visit the park. Additionally, the summer visitation to the region would continue to exist and would not likely cause local businesses to need to raise prices to maintain their revenues.

C. Does not have significant adverse effects on competition, employment, investment, productivity, innovation, or the ability of U.S.-based enterprises to compete with foreign-based enterprises. This rulemaking has no effect on methods of manufacturing or production and specifically affects the Wyoming region, not national or U.S. based enterprises.

Unfunded Mandates Reform Act

This rule does not impose an unfunded mandate on State, local, or tribal governments or the private sector of more than $100 million per year. The rule does not have a significant or unique effect on State, local or tribal governments or the private sector. It addresses public use of national park lands, and imposes no requirements on other agencies or governments.

Takings (Executive Order 12630)

In accordance with Executive Order 12630, the rule does not have significant takings implications. Private property within or adjacent to the parks will still be afforded the same access during winter as before this rule. No other property is affected.

Federalism (Executive Order 13132)

In accordance with Executive Order 13132, the rule does not have sufficient federalism implications to warrant the preparation of a Federalism Assessment. It addresses public use of national park lands, and imposes no requirements on other agencies or governments.

Civil Justice Reform (Executive Order 12988)

In accordance with Executive Order 12988, the Office of the Solicitor has determined that this rule does not unduly burden the judicial system and meets the requirements of sections 3(a) and 3(b)(2) of the Order.

Paperwork Reduction Act

This regulation does not require an information collection from 10 or more parties and a submission under the Paperwork Reduction Act is not required. An OMB form 83-I is not required.

National Environmental Policy Act

This rule is a major Federal action significantly affecting the quality of the human environment. A Final Environmental Impact Statement has been completed and a Record of Decision issued which this rule implements in part.

Government-to-Government Relationship With Tribes

In accordance with the President's memorandum of April 29, 1994, “Government to Government Relations with Native American Tribal Governments” (59 FR 22951) our departmental manual, 512 DM 2, and in compliance with Executive Order 13175, Consultation and Coordination With Indian Tribal Governments, issued on November 6, 2000 (65 FR 67249), we have evaluated potential effects on federally recognized Indian tribes and have determined that there are no potential effects. Numerous tribes in the area were consulted in the development of the EIS. Their major concern was to reduce the adverse effects on wildlife by snowmobiles. This rule does that.

Drafting Information

The principal contributors to this rule have been Stephen C. Saunders, Deputy Assistant Secretary of the Interior for Fish and Wildlife and Parks; T. Destry Jarvis, Senior Advisor to the Assistant Secretary for Fish and Wildlife and Parks; Karen S. Kovacs, Senior Advisor to the Assistant Secretary for Fish and Wildlife and Parks; Molly Ross, Assistant Solicitor, Branch of National Parks, Office of the Solicitor; Kym A. Hall, NPS Regulations Program Manager; Sarah Creachbaum and Bob Rossman Outdoor Recreation Planners, Grand Teton; and John Sacklin, Supervisory Park Resource Planner, Yellowstone.

List of Subjects in 36 CFR Part 7

District of Columbia, National parks, Reporting and recordkeeping requirements.

We amend 36 CFR part 7 as set forth below:

PART 7—SPECIAL REGULATIONS; AREAS OF THE NATIONAL PARK SYSTEM

1. The authority for part 7 continues to read as follows:

Authority: 16 U.S.C. 1, 3, 9a, 460(q), 462(k); Sec. 7.96 also issued under D.C. Code 8-137 (1981) and D.C. Code 40-721 (1981).

2. In § 7.13, remove the heading of paragraph (l), revise paragraphs (l)(1) and (l)(2) introductory text, add a heading to paragraph (l)(2), and add paragraphs (l)(3) through (l)(14) to read as follows:

§ 7.13 Yellowstone National Park.

* * * * *

(l)(1) May I operate a snowmobile in Yellowstone National Park? You may operate a snowmobile in Yellowstone National Park in compliance with the public use limits and operating conditions established in this section. Effective with the end of the winter use season of 2003-2004, snowmobile use in Yellowstone National Park is prohibited, except for essential administrative use and in emergency situations as determined by the Superintendent.

(2) What routes are designated for snowmobile use in the park through the winter season of 2001-2002? Effective until the end of the winter use season of 2001-2002, snowmobile use shall be limited to the unplowed roadway, which is defined as that portion of the roadway located between the road shoulders designated by snow poles or poles, ropes, and signs erected by the superintendent to regulate snowmobile activity, of the following routes for snowmobile use:

* * * * *

(3) What is a winter use season? A winter use season is that portion of the winter months that begins each year in approximately late November, through the following year ending in approximately the middle of March. Specific dates are dependent on weather conditions and the availability of NPS facilities and resources and may be adjusted at the discretion of the Superintendent. Appropriate notice will be given to the public of determined start and ending dates each season.

(4) When snowmobile use is authorized, where may I operate my snowmobile? You may operate your snowmobile upon designated routes established within the park. On designated routes, snowmobile use is limited to the unplowed roadway, which is distinguished as that portion of the roadway located between the road shoulders and is designated by snow poles or other poles, ropes, fencing, or signs erected to regulate snowmobile activity. The unplowed roadway may also be distinguished by the interior boundaries of the berm created by the packing and grooming of the unplowed roadway. Snowmobiles may also be operated in pullouts or parking areas that are groomed or marked similarly to roadways.

(5) What routes are designated for snowmobile use in the park during the winter season of 2002-2003? During the winter use season of 2002-2003, the following routes are designated for snowmobile use:

(i) The Grand Loop Road from its junction with Terrace Springs Drive to Norris Junction.

(ii) Norris Junction to Canyon Junction.

(iii) The Grand Loop Road from Norris Junction to Madison Junction.

(iv) The West Entrance Road from the park boundary at West Yellowstone to Madison Junction.

(v) The Grand Loop Road from Madison Junction to West Thumb.

(vi) The South Entrance Road from the South Entrance to West Thumb.

(vii) The Grand Loop Road from West Thumb to its junction with the East Entrance Road.

(viii) The East Entrance Road from the East Entrance to its junction with the Grand Loop Road.

(ix) The Grand Loop Road from its junction with the East Entrance Road to Canyon Junction.

(x) The South Canyon Rim Drive.

(xi) Any groomed or marked pullouts or parking areas along each of these routes.

(xii) In the developed areas of Madison Junction, Old Faithful, Grant Village, Lake, Fishing Bridge, Canyon, Indian Creek, and Norris, snowmobile routes to scenic points of interest, lodging, and other facilities will be designated by appropriate snow poles and signs and will be limited to the unplowed roadways in those areas.

(xiii) The Superintendent may open or close these routes after taking into consideration the location of wintering wildlife, appropriate snow cover, and other factors that may relate to public safety.

(xiv) Maps detailing the designated routes will be available from Park Headquarters.

(6) What criteria may the Superintendent use to determine the routes within the developed areas referred to in paragraph (l)(5)(xii) of this section? The Superintendent shall use the criteria in Executive Order 11644 (3 CFR, 1971-1975 Comp., p. 666) and may use other criteria to determine use routes within the developed areas of Madison Junction, Old Faithful, Grant Village, Lake, Fishing Bridge, Canyon, Indian Creek and Norris including the most direct route of access, weather and snow conditions, and those routes necessary to eliminate congestion and improve the circulation of the visitor use patterns in the interest of public safety.

(7) What limits are established for the numbers of snowmobiles permitted to use the park each day? For the winter use season 2002-2003, the numbers of snowmobiles allowed to use the park each day are listed in the following table:

Park entrance gate or area | Maximum daily number of snowmobiles allowed per gate
(i) North Entrance | 60
(ii) West Entrance | 278
(iii) East Entrance | 65
(iv) South Entrance | 90

(8) May I operate a snowcoach in Yellowstone National Park? Snowcoaches may be operated in Yellowstone National Park under a Concessions Contract or Permit authorized by the Superintendent. Snowcoach operation is subject to the conditions of the permit and all other conditions identified in this section.

(9) What is a snowcoach? A snowcoach is a self-propelled mass transit vehicle intended for travel on snow, having a curb weight of over 1000 pounds (450 kilograms), driven by a track or tracks and steered by skis or tracks, having a capacity of at least 8 passengers.

(10) What routes are designated for snowcoach use? Snowcoaches may operate on the same routes designated for snowmobile use in paragraph (l)(5) of this section and the following designated routes:

(i) Firehole Canyon Drive.

(ii) Fountain Flat Road.

(iii) Virginia Cascades Drive.

(iv) North Canyon Rim Drive.

(v) Riverside Drive.

(vi) Lake Butte Overlook Drive.

(vii) The portion of the Grand Loop Road from Canyon Junction to Washburn Hot Springs Overlook.

(11) What other conditions are placed on snowmobile and snowcoach operations? Snowmobiles and snowcoaches may be operated in the park under the following conditions:

(i) Snowcoaches, and during the winter use season of 2002-2003 snowmobiles, may not be operated in the park between the hours of 9:00 p.m. and 8:00 a.m. except by authorization.

(ii) Idling a snowmobile or snowcoach is limited to 10 minutes at any one time.

(iii) Snowmobiles or snowcoaches that stop on designated routes must pull over to the far right next to the snow berm. Stopping the vehicle in a hazardous location, or where the view of the vehicle might be obscured, such as on a curve, is prohibited. Pullouts must be utilized when available and accessible.

(iv) Snowmobiles and snowcoaches must be properly registered and display a valid state registration sticker.

(v) Snowmobile operators must possess a valid state motor vehicle operator's license or learner's permit. The license or permit must be carried on the operator's person at all times.

(vi) Persons operating a snowmobile while possessing a learner's permit must be accompanied and supervised within line of sight, but no further than 100 yards, by a responsible person 21 years of age or older possessing a valid state motor vehicle operator's license.

(vii) Allowing or permitting an unlicensed driver to operate a snowmobile is prohibited.

(viii) During the winter season of 2002-2003, snowmobiles must be accompanied by an NPS permitted guide and may not travel in groups of more than 11 snowmobiles.

(12) May I operate a snowplane in the park? The operation of snowplanes in Yellowstone National Park is prohibited.

(13) What is a snowplane? A snowplane is a self-propelled vehicle intended for over-the-snow travel and driven by a pusher-propeller.

(14) Are there any other forms of over-snow transportation allowed in the park? No other forms of motorized over-snow transportation are permitted for use in the park unless specifically approved by the Superintendent and are consistent with the requirements of the applicable Executive Orders and the park's management plans.

* * * * *

3. In § 7.21, remove the heading of paragraph (a), revise paragraphs (a)(1), (a)(2) introductory text, and (a)(3), add a heading to paragraph (a)(2), and add paragraphs (a)(4) through (a)(12) to read as follows:

§ 7.21 John D. Rockefeller, Jr., Memorial Parkway.

(a)(1) May I operate a snowmobile in the Parkway? You may operate a snowmobile in the Parkway in compliance within the public use limits and operating conditions established in this section until the end of the winter use season of 2002-2003 at which time snowmobile use in the Parkway is prohibited except for essential administrative use and in emergency situations as determined by the Superintendent.

(2) What routes are designated for snowmobile use in the Parkway prior to the winter use season of 2002-2003? Effective until the end of the winter use season of 2001-2002, the following are the designated routes to be open to snowmobile use:

* * * * *

(3) What is a winter use season? A winter use season is that portion of the winter months that begins each year in approximately late November through the following year ending in approximately the middle of March. Dates are dependent on weather conditions and the availability of NPS facilities and resources and may be adjusted at the discretion of the Superintendent. Appropriate notice will be given to the public of determined start and ending dates each season.

(4) What routes are designated for snowmobile use in the Parkway in the winter use season of 2002-2003? During the winter use season of 2002-2003, the following routes are designated for snowmobile use:

(i) The Continental Divide Snowmobile Trail (CDST) along U.S. Highway 89/287 from the southern boundary of the Parkway to Flagg Ranch.

(ii) Along U.S. Highway 89/287 from Flagg Ranch to the northern boundary of the Parkway.

(iii) Grassy Lake Road from Flagg Ranch to the western boundary of the Parkway.

(iv) The Superintendent may open or close these routes after taking into consideration the location of wintering wildlife, appropriate snow cover, and other factors that may relate to public safety.

(v) Maps detailing the designated routes will be available from Park Headquarters.

(5) What limits are established for the numbers of snowmobiles permitted to use the Parkway each day? For the winter use season 2002-2003, the numbers of snowmobiles allowed to use the Parkway each day are listed in the following table:

Park entrance gate or area | Maximum number of snowmobiles allowed per gate
(i) Continental Divide Snowmobile Trail (along U.S. 89/287) from the southern boundary of the JDR Parkway to Flagg Ranch | 25
(ii) (Along U.S. 89/287) Flagg Ranch to northern boundary of Parkway | 90
(iii) Grassy Lake Road | 25

(6) May I operate a snowcoach in the Parkway? Snowcoaches may be operated in the Parkway under a Concessions Contract or Permit authorized by the Superintendent. Snowcoach operation is subject to the conditions of the permit and all other conditions identified in this section.

(7) What is a snowcoach? A snowcoach is a self-propelled mass transit vehicle intended for travel on snow, having a curb weight of over 1000 pounds (450 kilograms), driven by a track or tracks and steered by skis or tracks, having a capacity of at least 8 passengers.

(8) What routes are designated for snowcoach use? Snowcoaches may operate on the routes designated for snowmobile use in paragraphs (a)(4)(i) through (iii) of this section.

(9) What other conditions are placed on snowmobile and snowcoach operations? Snowmobiles and snowcoaches may be operated under the following conditions:

(i) Snowmobiles or snowcoaches that stop on designated routes must pull over to the far right next to the snow berm. Stopping the vehicle in a hazardous location, or where the view of the vehicle might be obscured, such as on a curve, is prohibited. Pullouts must be utilized when available and accessible.

(ii) Snowmobiles and snowcoaches must be properly registered and display a valid state registration sticker.

(iii) Snowmobile operators must possess a valid state motor vehicle operator's license or learner's permit. The license or permit must be carried on the operator's person at all times.

(iv) Persons operating a snowmobile while possessing a learner's permit must be accompanied and supervised within line of sight, but no further than 100 yards, by a responsible person 21 years of age or older possessing a valid state motor vehicle operator's license.

(v) Allowing or permitting an unlicensed driver to operate a snowmobile is prohibited.

(vi) Snowcoaches, and during the winter use season of 2002-2003 snowmobiles, may not be operated in the park between the hours of 9 p.m. and 8 a.m. except by authorization.

(10) May I operate a snowplane in the Parkway? The operation of snowplanes in the Parkway is prohibited.

(11) What is a snowplane? A snowplane is a self-propelled vehicle intended for over-the-snow travel and driven by a pusher-propeller.

(12) Are there any other forms of over-snow transportation allowed in the Parkway? No other forms of motorized over-snow transportation are permitted for use in the Parkway unless specifically approved by the Superintendent and are consistent with the requirements of the applicable Executive Orders and the park's management plans.

* * * * *

4. Paragraph (g) of § 7.22 is revised to read as follows:

§ 7.22 Grand Teton National Park.

* * * * *

(g)(1) May I operate a snowmobile in Grand Teton National Park? Until the end of the winter use season of 2001-2002, you may operate a snowmobile on the routes and areas designated in paragraphs (g)(2) through (g)(4) of this section in compliance with operating standards established by the Superintendent. During the winter use season of 2002-2003, you may operate a snowmobile on the route designated in paragraph (g)(6) of this section in compliance with the public use limits and operating standards established by the Superintendent. Effective the winter use season of 2003-2004, snowmobile use will be restricted to the routes and purposes in paragraphs (g)(10), (11), (12), and (13) of this section. All other snowmobile use is prohibited, except for essential administrative use and in emergency situations as determined by the Superintendent.

(2) Effective until the end of the winter use season 2001-2002, the following are the designated routes to be open to snowmobile use: The Spread Creek Road; the unplowed portion of the Pacific Creek Road; the unplowed portion of the Ditch Creek Road; the Lost Creek Ranch Road, those portions of the unplowed roads connecting with the Shadow (Antelope) Mountain Forest Service Road at Cunningham Cabin, Lost Creek Road and Antelope Flats Road; the unplowed portions of the Moose-Wilson Road; and the unplowed portion of the Teton Park Road north of Cottonwood Creek to a line of markers south of Timbered Island, around the east side of Timbered Island north to the line of markers at South Jenny Lake Junction, and then north to Signal Mountain Lodge, except during the period previous to opening of Potholes-Baseline Flats areas when the Teton Park Road will be open through to Signal Mountain, the Jenny Lake Loop Road, the Spalding Bay Road, the String Lake Picnic Area Road, the Signal Mountain Summit Road, the Signal Mountain Launch Ramp Road, and the Lizard Creek Campground Road.

(3) Effective until the end of the winter use season 2001-2002, the following are the designated areas open to snowmobile use: The Potholes-Baseline Flats area east of the Teton Park Road north of the Cottonwood Creek, north of the Bar BC access road, east of Timbered Island, west of the River Road or as marked at the top of the Snake River Bench, northwest of Timbered Island as marked to the Teton Park Road and bounded on the north by the RKO Road.

(4) Effective until the end of the winter use season 2001-2002, the following water surface is designated for snowmobile and snowplane use: The frozen surface of Jackson Lake.

(5) What is a winter use season? A winter use season is that portion of the winter months that begins each year in approximately late November, through the following year ending in approximately the middle of March. Specific dates are dependent on weather conditions and the availability of park facilities and resources and may be adjusted at the discretion of the Superintendent. Appropriate notice will be given to the public of determined start and ending dates each season.

(6) What routes and limits are designated for snowmobile use in the park during the winter use season of 2002-2003? For the winter use season of 2002-2003, the Continental Divide Snowmobile Trail along U.S. 26/287 from Moran to the eastern park boundary and along U.S. 89/287 from Moran to the north park boundary is designated for snowmobile use. The Superintendent may open or close this route after taking into consideration the location of wintering wildlife, appropriate snow cover, and other factors that may relate to public safety. A maximum of 25 snowmobiles is allowed to use this route each day.

(7) What other conditions are placed on snowmobile operations? Snowmobiles may be operated in the park under the following conditions:

(i) Snowmobiles that stop on designated routes must pull over to the far right next to the snow berm. Stopping the vehicle in a hazardous location, or where the view of the vehicle might be obscured, such as on a curve, is prohibited. Pullouts must be utilized when available and accessible.

(ii) Snowmobiles must be properly registered and display a valid state registration sticker.

(iii) Snowmobile operators must possess a valid state motor vehicle operator's license or learner's permit. The license or permit must be carried on the operator's person at all times. Snowmobile operators are not required to possess a valid drivers license while operating on the public access routes designated in paragraph (g)(10) of this section and the private property access routes designated in paragraph (g)(12) of this section.

(iv) Persons operating a snowmobile while possessing a learner's permit must be accompanied and supervised within line of sight, but no farther than 100 yards, by a responsible person 21 years of age or older possessing a valid state motor vehicles operator's license.

(v) Allowing or permitting an unlicensed driver to operate a snowmobile is prohibited.

(vi) Snowcoaches, and during the winter use season of 2002-2003 snowmobiles, may not be operated in the park between the hours of 9 p.m. and 8 a.m.

(8) May I operate a snowplane in the park? If you had a permit to operate a snowplane on Jackson Lake during the winter use season 2000-2001, you may obtain a permit to operate a snowplane on Jackson Lake during the winter use season of 2001-2002. Effective at the end of the winter use season 2001-2002, snowplane use in Grand Teton National Park is prohibited.

(9) What is a snowplane? A snowplane is a self-propelled vehicle intended for over-the-snow travel and driven by a pusher-propeller.

(10) May I continue to access public lands via snowmobile through the park? Reasonable and direct access via snowmobile to adjacent public lands will continue to be permitted on designated routes through the park. The following routes are designated for access via snowmobile to public lands:

(i) From the parking area at Shadow Mountain directly along the unplowed portion of the road to the east park boundary.

(ii) Along the unplowed portion of the Ditch Creek Road directly to the east park boundary.

(iii) From the Cunningham Cabin pullout on U.S. 26/89 near Triangle X to the east park boundary.

(11) For what purpose may I use the routes designated in paragraph (g)(10) of this section? You may use those routes designated in paragraph (g)(10) of this section to gain direct access to public lands adjacent to the park boundary.

(12) May I continue to access private property within or adjacent to the park via snowmobile? Reasonable and direct access via snowmobile to private property will continue to be permitted via designated routes in the park. The following routes are designated for access to private property within or adjacent to the park:

(i) The unplowed portion of Antelope Flats Road off U.S. 26/89 to private lands in the Craighead Subdivision.

(ii) The unplowed portion of the Teton Park Road to that piece of land commonly referred to as the “Clark Property”.

(iii) From the Moose-Wilson Road to the land commonly referred to as the “Barker Property” until the Department of the Interior takes full possession of that land.

(iv) From the Moose-Wilson Road to the land commonly referred to as the “Wittimer Property” until the Department of the Interior takes full possession of that land.

(v) From the Moose-Wilson Road to those two pieces of land commonly referred to as the “Halpin Properties”.

(vi) From either end of the plowed sections of the Moose-Wilson Road to that piece of land commonly referred to as the “JY Ranch”.

(vii) From Highway 26/89/187 to those lands commonly referred to as the “Meadows”, the “Circle EW Ranch”, the “Moulton Property, the “Levinson Property” and the “West Property”.

(viii) From Cunningham Cabin pullout on U.S. 26/89 near Triangle X the piece of land commonly referred to as the “Lost Creek Ranch”.

(ix) Maps detailing designated routes will be available from Park Headquarters.

(13) For what purpose may I use the routes designated in paragraph (g)(12) of this section? Those routes designated in paragraph (g)(12) of this section are to access private property within or directly adjacent to the park boundary. Use of these roads via snowmobile is authorized only for the landowners and their representatives or guests. Recreational use of these roads by anyone is prohibited.

(14) Are there any other forms of over-snow transportation allowed in the park? No other forms of motorized over-snow transportation are permitted for use in the park unless specifically approved by the Superintendent and are consistent with the requirements of the applicable Executive Orders and the park's management plans.

Dated: January 18, 2001.
Stephen C. Saunders,
Acting Assistant Secretary, Fish and Wildlife and Parks.

[FR Doc. 01-1944 Filed 1-19-01; 8:45 am]

BILLING CODE 4310-70-U